DEPARTMENT OF COMMERCE

National Oceanic and Atmospheric Administration

Agency Information Collection Activities; Submission to the Office of Management and Budget (OMB) for Review and Approval; Comment Request; User Needs Survey by the Space Weather Advisory Group

AGENCY: National Oceanic & Atmospheric Administration (NOAA), Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before October 17, 2022.

ADDRESSES: Interested persons are invited to submit written comments to Adrienne Thomas, NOAA PRA Officer, at NOAA.PRA@noaa.gov. Please reference OMB Control Number 0648-XXXX in the subject line of your comments. Do not submit Confidential Business Information or otherwise sensitive or protected information.

FOR FURTHER INFORMATION CONTACT: Requests for additional information or specific questions related to collection activities should be directed to Dr. Jennifer Meehan, Designated Federal Officer, Space Weather Advisory Group, DOC/NOAA/NWS, 1325 East West Highway, Silver Spring, MD 20910, 301-427-9798, jennifer.meehan@noaa.gov.

SUPPLEMENTARY INFORMATION:

I. Abstract

This is a request for a new collection of information.

The data collection is sponsored by DOC/NOAA/NWS/Space Weather Advisory Group (SWAG). The SWAG is required under 51 U.S. Code 60601(d)(3) to undertake a comprehensive survey of space weather product users to identify the “research, observations, forecasting, prediction, and modeling advances required to improve space weather products.” Specifically, the SWAG will (i) assess the adequacy of current Federal Government goals for lead time, accuracy, coverage, timeliness, data rate, and data quality for space weather observations and forecasting; (ii) identify options and methods to, in consultation with the academic community and the commercial space weather sector, improve upon the advancement of the goals described in clause (i); (iii) identify opportunities for collection of new data to address the needs of the space weather user community; (iv) identify methods to increase coordination of space weather research to operations and operations to research; (v) identify opportunities for new technologies, research, and instrumentation to aid in research, understanding, monitoring, modeling, prediction, forecasting, and warning of space weather; and (vi) identify methods and technologies to improve preparedness for potential space weather phenomena.

This collection identified seven sectors (Aviation, Emergency Management, Global Navigation Satellite System, Human Space Flight, Power Grid, Research, and Space Situational Awareness/Space Traffic Management) that will be consulted as part of this effort. Information will be collected on a one-off basis from each of the sectors. Respondents in each sector include the general public, defined as (adults ages 18+). Members of the SWAG will oversee recruitment of the respondents. Respondents will be asked questions about their current use of space weather observations, information, and forecasts, technological systems, components or elements affected by space weather, current and future risk and resilience activities, future space weather requirements, and unused or new types of measurements or observations that would enhance space weather risk mitigation. This data collection serves many purposes, including gaining a better understanding of the needs of users of space weather products. The SWAG will use the data to identify the space weather research, observations, forecasting, prediction, and modeling advances required to improve space weather products. Specifically, the information will be used to advise the National Science and Technology Council's Space Weather Operations, Research, and Mitigation (SWORM) Subcommittee on improving the ability of the United States to prepare for, mitigate, respond to, and recover from space weather storms.

II. Method of Collection

Information will be collected from seven sectors identified in Section I. Several methods will be used to collect the information including web-based surveys, interviews, and focus groups. Determination of the appropriate method will be based on the sector in question.

III. Data

OMB Control Number: 0648-XXXX.

Form Number(s): None.

Type of Review: Regular (New information collection).

Affected Public: Individuals or households; Business or other for-profit organizations; Not-for-profit institutions; State, Local, or Tribal government; Federal government.

Estimated Number of Respondents: 515.

Estimated Time per Response:

• Aviation: 30 minutes

• Emergency Management: 8 hours

• Global Navigation Satellite System: 15 minutes (Survey) and 1 hour (Interview)

• Human Space Flight: 1 hour

• Power Grid: 1 hour

• Research Sector: 30 minutes

• Space Situational Awareness/Space Traffic Management: 1 hour

Estimated Total Annual Burden Hours: 6824.

Estimated Total Annual Cost to Public: None.

Respondent's Obligation: Voluntary.

Legal Authority: 51 U.S. Code 60601, Space weather.

IV. Request for Comments

We are soliciting public comments to permit the Department/Bureau to: (a) Evaluate the accuracy of our estimate of the time and cost burden for this proposed collection, including the validity of the methodology and assumptions used; (b) Evaluate ways to enhance the quality, utility, and clarity of the information to be collected; and (c) Minimize the reporting burden on those who are asked to voluntarily respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Chief Information Officer, Commerce Department.

[FR Doc. 2022-17567 Filed 8-15-22; 8:45 am]

BILLING CODE 3510-KE-P